ENVIRONMENTAL PROTECTION AGENCY

40 CFR Part 52

[EPA-R04-OAR-2005-KY-0002-200531(c); FRL-8187-4]

Approval and Promulgation of Implementation Plans and Designation of Areas for Air Quality Planning Purposes; Kentucky; Redesignation of the Boyd County SO2 Nonattainment Area; Correction

AGENCY: Environmental Protection Agency (EPA).

ACTION: Direct final rule; correction.

SUMMARY: On May 24, 2006 (71 FR 29786), EPA published a direct final document redesignating the Boyd County, Kentucky area to attainment for SO2. The Federal Docket Management System (FDMS) docket number was incorrectly referenced. This document corrects the docket number.

DATES: This action is effective June 22, 2006.

ADDRESSES: Copies of the documentation used in the action being corrected are available for inspection during normal business hours at the following location: U.S. Environmental Protection Agency, Region 4, 61 Forsyth Street, SW., Atlanta, Georgia 30303-8960. The Regional Office's official hours of business are Monday through Friday, 8:30 to 4:30, excluding Federal holidays.

FOR FURTHER INFORMATION CONTACT: Stacy DiFrank, Regulatory Development Section, Air Planning Branch, Air, Pesticides and Toxics Management Division, U.S. Environmental Protection Agency, Region 4, 61 Forsyth Street, SW., Atlanta, Georgia 30303-8960. The telephone number is (404) 562-9042. Ms. DiFrank can also be reached via electronic mail at difrank.stacy@epa.gov.

SUPPLEMENTARY INFORMATION: EPA is making a correction to the document published on May 24, 2006, (71 FR 29786), approving a Kentucky SIP revision which redesignated the Boyd County Area to attainment for SO2. The FDMS docket number “R04-OAR-2005-KY-0002” was inadvertently stated in the May 24, 2006, document. The FDMS docket number in the heading and the ADDRESSES section on page 29786 (in columns one and two) of the final rule should read as follows: “EPA-R04-OAR-2005-KY-0002.”

List of Subjects in 40 CFR Part 52

Environmental protection, Air pollution control, Intergovernmental relations, Nitrogen dioxide, Ozone, Particulate matter, Reporting and recordkeeping requirements, Volatile organic compounds.

Authority: 42 U.S.C. 7401 et seq.

Dated: June 12, 2006.
A. Stanley Meiburg,
Acting Regional Administrator, Region 4.

[FR Doc. 06-5602 Filed 6-21-06; 8:45 am]

BILLING CODE 6560-50-P